DEPARTMENT OF DEFENSE

Department of the Air Force

Privacy Act of 1974; System of Records

Correction

In notice document 04-8649 beginning on page 20864 in the issue of Monday, April 19, 2004, make the following correction:

On page 20865, in the first column, after the signature block, in the next line, the heading “F044 AS SG U”, should read “F044 AF SG U”.

[FR Doc. C4-8649 Filed 4-26-04; 8:45 am]

BILLING CODE 1505-01-D